NUCLEAR REGULATORY COMMISSION

Relocation of the NRC Public Document Room

AGENCY: Nuclear Regulatory Commission.

ACTION: Notification of relocation of the NRC Public Document Room.

SUMMARY: Notice is hereby given that the Nuclear Regulatory Commission (NRC) is planning to relocate the NRC's Public Document Room (PDR). The PDR is currently located at 2120 L Street, NW, in Washington DC. The NRC plans to relocate the PDR to the NRC's headquarters at the White Flint complex in Rockville, Maryland, by September 30, 2000. The NRC is requesting public comment from users of the PDR on how to best optimize service at this new location.

DATES: The comment period expires April 28, 2000. Comments received after this date will be considered if it is practical to do so, but the Commission is able to assure consideration only for comments received on or before this date.

ADDRESSES: Comments should be sent to David L. Meyer, Chief, Rules and Directives Branch, Office of Administration, Nuclear Regulatory Commission, Mail Stop T-6D59, Washington, DC 20555-00001.

Hand deliver comments to 11545 Rockville Pike, Rockville, MD, between 7:30 a.m. and 4:15 p.m. on Federal workdays.

SUPPLEMENTARY INFORMATION: The Nuclear Regulatory Commission (NRC) is planning to relocate the NRC's Public Document Room (PDR). The PDR is currently located at 2120 L Street, NW, in Washington DC. The NRC plans to relocate the PDR to the NRC's headquarters at the White Flint complex in Rockville, Maryland, by September 30, 2000.

The NRC's headquarters offices are located at 11555 Rockville Pike, Rockville, Maryland, at the intersection of Rockville Pike and Marinelli Drive. These offices are conveniently located across Marinelli Drive from the White Flint Station on Metro's Red Line and are a short distance from the Capital Beltway (I-495) exits 34 and 35. All reference services currently provided at the Washington, DC, location will be available in the newly renovated space at NRC headquarters. Dining facilities, both inside and outside the headquarters complex, are available. Limited free perimeter parking is available at the rear of the building as well as on nearby streets. The new facility will have handicapped access and parking.

One function of the PDR is to manage the research collection of publicly available paper documents comprising those that pre-date the NRC's Agencywide Documents Access and Management System (ADAMS) (before November 1, 1999) and those ADAMS records that are provided to the PDR in paper. In a recent study of document usage, it was determined that most of the documents requested and copied by the public are less than 18 months old. At the time of the move, the PDR will have over a year's worth of documents in ADAMS, the NRC's full text-database. The NRC intends to retire the majority of the historical paper collection to an off-site storage facility with plans to provide no-cost, quick turn-around retrieval service. Paper copies of the more frequently requested documents will be kept on-site. As now, the 2.5 million documents in the ADAMS Legacy Library will be available for immediate viewing (and copying) on microfiche at the new facility.

Other On-Going PDR Services

The PDR technical reference librarians assist the public in identifying, retrieving, organizing, and evaluating NRC publicly available information and documents, as well as other resources, represented in electronic, microfiche, paper, and other formats. The PDR provides terminals for the public to access documents in the ADAMS, training, and other assistance in installing and using ADAMS. The PDR manages a contract that provides, for a fee, document duplication for the public. There will continue to be an “800” number for callers outside the Washington, DC, metropolitan area; however, that number will change when the move is finalized.

Although NRC's headquarters office is located in Rockville, Maryland, section 23 of the Atomic Energy Act of 1954, as amended, requires the NRC to maintain an office for the service of process and papers within the District of Columbia. The NRC has used its PDR at its current location in Washington, DC, to meet this requirement. However, in view of the fact that most NRC stakeholders currently serve papers at NRC headquarters in Rockville, Maryland, and that the NRC in the near future will permit electronic filings, the NRC has requested Congress to enact legislation that would eliminate the requirement that the NRC maintain an office in the District of Columbia. In the event that legislation is not enacted, the NRC will identify alternative means to satisfy the requirement in section 23. The NRC will make conforming changes to its regulations to reflect the new location of the agency's PDR.

FOR FURTHER INFORMATION CONTACT: Thomas E. Smith, Acting Chief of the PDR, Nuclear Regulatory Commission, telephone 202-634-3381, or toll-free 1-800-397-4209.

Dated at Rockville, Maryland, this 22nd day of March 2000.
For the Nuclear Regulatory Commission.
Francine F. Goldberg,
Director, Information Management Division, Office of the Chief Information Officer.

[FR Doc. 00-7711 Filed 3-28-00; 8:45 am]

BILLING CODE 7590-01-P